DEPARTMENT OF THE INTERIOR

Fish and Wildlife Service

[FWS-R6-R-2008-N0143; 60138-1265-6CCP-S3]

Pathfinder National Wildlife Refuge, Wyoming

AGENCY: Fish and Wildlife Service, Interior.

ACTION: Notice of Availability; request for comments.

SUMMARY: We, the U.S. Fish and Wildlife Service (Service) announce that the draft Comprehensive Conservation Plan (CCP) and Environmental Assessment (EA) for the Pathfinder National Wildlife Refuge is available. This draft CCP/EA describes how the Service intends to manage the refuge for the next 15 years. We request public comment.

DATES: To ensure consideration, we must receive your written comments on the draft CCP/EA by July 16, 2008.

ADDRESSES: Please provide written comments to Toni Griffin, Planning Team Leader, Division of Refuge Planning, Branch of Comprehensive Conservation Planning, Mountain-Prairie Region, P.O. Box 25486, Denver Federal Center, Denver, Colorado 80225-0486; via facsimile at 303-236-4792; or electronically to toni_griffin@fws.gov. A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: Toni Griffin, 303-236-4378 (phone) or John Esperance, 303-236-4369 (phone).

SUPPLEMENTARY INFORMATION: Located in central Wyoming in a high plains basin near the headwaters of the Platte-Kansas Ecosystem, Pathfinder National Wildlife Refuge (NWR) lies approximately 47 miles southwest of Casper, Wyoming. The Pathfinder NWR is managed by Service staff headquartered at the Arapaho NWR near Walden, Colorado.

Pathfinder NWR was established by Executive Order 7425, August 1, 1936, which designated the Pathfinder Wildlife Refuge “as a refuge and breeding ground for birds and other wildlife.” Pathfinder NWR was established as an overlay refuge on Bureau of Reclamation lands. As such, primary jurisdiction of these lands remains under the authority of the Bureau of Reclamation. The Bureau of Reclamation administers lands within the Pathfinder Project boundary for North Platte Project purposes including flood control, irrigation, and hydroelectric power generation. A Memorandum of Agreement specifies the management responsibilities of the U.S. Fish and Wildlife Service while preserving the autonomy of Bureau of Reclamation to manage Pathfinder Dam and Reservoir.

This draft CCP/EA identifies and evaluates three alternatives for managing the refuge for the next 15 years. Alternative A, the No Action alternative, reflects the current management of the refuge. It provides the baseline against which to compare the other alternatives. Refuge habitats would continue to be minimally managed on an opportunistic schedule that may maintain, or most likely would result in further decline in, the diversity of vegetation and wildlife species. Only limited data collection and monitoring of refuge habitats and wildlife species would occur on the refuge. Outreach and partnerships would continue at present levels.

Management activities under alternative B would be increased. Upland habitats would be evaluated and managed for the benefit of migratory bird species. Monitoring and management of invasive species on the refuge would be increased. With additional staffing, the Service would collect baseline biological information for wildlife and habitats. Wildlife-dependent recreation opportunities would be provided and enhanced where compatible with refuge purposes. Efforts would be increased in the operations and maintenance of natural resources on the refuge and to maintain and develop partnerships that promote wildlife and habitat research and management.

Alternative C is the Service's proposed action and basis for the draft comprehensive conservation plan. Under Alternative C, the Memorandum of Agreement between the Bureau of Reclamation and the Service would be modified to eliminate Service interest in lands (approximately 10,800 acres) that are difficult to manage and provide minimal opportunity to improve wildlife habitat. Remaining refuge areas would be managed similar to those actions described in Alternative B. This would enable the Service to focus efforts on manageable lands, thereby enhancing refuge management and efficiently directing refuge resources toward accomplishing the mission of the Refuge System.

The proposed action (Alternative C) was selected because it best meets the purposes and goals of the refuge, as well as the mission and goals of the National Wildlife Refuge System. The proposed action will also benefit federally listed species, shore birds, migrating and nesting waterfowl and resident wildlife. Environmental education and partnerships will result in improved wildlife-dependent recreational opportunities. Cultural and historical resources as well as federally listed species will be protected.

Opportunity for public input will be provided at a public meeting to be scheduled soon. The specific date and time for the public meeting is yet to be determined, but will be announced via local media and a planning update. All information provided voluntarily by mail, by phone, or at public meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: June 5, 2008.
Sharon R. Rose,
Acting Regional Director.

[FR Doc. E8-13469 Filed 6-13-08; 8:45 am]

BILLING CODE 4310-55-P